ENVIRONMENTAL PROTECTION AGENCY

40 CFR Part 52

[EPA-R01-OAR-2016-0166; FRL-10414-01-R1]

Air Plan Approval; Connecticut; Plan Submittals for the 2008 Ozone National Ambient Air Quality Standard; Correction

AGENCY: Environmental Protection Agency (EPA).

ACTION: Final rule; correction.

SUMMARY: The Environmental Protection Agency (EPA) is correcting a final rule that was published in the Federal Register on October 1, 2018, which became effective on October 31, 2018. The final rule approved State Implementation Plan (SIP) revisions submitted by the State of Connecticut to address SIP revisions submitted to meet moderate area nonattainment requirements for the 2008 ozone standard. The SIP revisions are for the Greater Connecticut and the Connecticut portion of the New York-Northern New Jersey-Long Island, NY-NJ-CT moderate ozone nonattainment areas, and include these areas 2011 base year emissions inventories, an emissions statement certification, reasonable further progress (RFP) demonstrations, reasonably available control measures (RACM) analyses, motor vehicle emissions budgets, and contingency measures. This correction does not change any final action taken by EPA on October 1, 2018; today's action merely corrects the Clean Air Act (CAA) citation for moderate area contingency measures. We have determined that there is good cause for making today's rule final without prior proposal and opportunity for comment because we are merely correcting an incorrect citation in a previous action. Thus, notice and public procedure are unnecessary.

DATES: This rule became effective on October 31, 2018.

ADDRESSES: EPA has established a docket for this action under Docket Identification No. EPA-R01-OAR-2016-0166. All documents in the docket are listed on the https://www.regulations.gov website. Although listed in the index, some information is not publicly available, i.e., CBI or other information whose disclosure is restricted by statute. Certain other material, such as copyrighted material, is not placed on the internet and will be publicly available only in hard copy form. Publicly available docket materials are available at https://www.regulations.gov or at the U.S. Environmental Protection Agency, EPA Region 1 Regional Office, Air and Radiation Division, 5 Post Office Square—Suite 100, Boston, MA. EPA requests that if at all possible, you contact the contact listed in the FOR FURTHER INFORMATION CONTACT section to schedule your inspection. The Regional Office's official hours of business are Monday through Friday, 8:30 a.m. to 4:30 p.m., excluding legal holidays and facility closures due to COVID-19.

FOR FURTHER INFORMATION CONTACT: Bob McConnell, Environmental Engineer, Air Quality Planning Unit, Air Programs Branch (Mail Code OEP05-02), U.S. Environmental Protection Agency, Region 1, 5 Post Office Square, Suite 100, Boston, Massachusetts, 02109-3912; (617) 918-1046; mcconnell.robert@epa.gov.

SUPPLEMENTARY INFORMATION: We find that this constitutes good cause under 5 U.S.C. 553(b)(B).

In FR doc. 2018-21150 appearing on page 49297 at 83 FR 49297 in the Federal Register of October 1, 2018, the following correction to the regulatory text is made:

§ 52.377 [Corrected]

On page 49298, in the second column, in § 52.377, in amendment 2, correct paragraph (t) Approval, to read as follows:

(t) Approval. Revisions to the State Implementation Plan submitted by the Connecticut Department of Energy and Environmental Protection on January 17, 2017, September 5, 2017, and August 8, 2017, to meet, in part, requirements of the 2008 ozone NAAQS. These revisions satisfy the rate of progress requirement of section 182(b) through 2017, the contingency measure requirements of section 172(c)(9), the emission statement requirements of section 182(a)(3)(B), and the reasonably available control measure requirement of section 172(c)(1) for the Connecticut portion of the New York-Northern New Jersey-Long Island, NY-NJ-CT area, and the Greater Connecticut moderate ozone nonattainment areas. The January 17, 2017 revision establishes motor vehicle emissions budgets for 2017 of 15.9 tons per day of VOC and 22.2 tons per day of NOX to be used in transportation conformity in the Greater Connecticut moderate ozone nonattainment area. The August 8, 2017 revision establishes motor vehicle emissions budgets for 2017 of 17.6 tons per day of VOC and 24.6 tons per day of NOX to be used in transportation conformity in the Connecticut portion of the New York-Northern New Jersey-Long Island, NYNJ-CT moderate ozone nonattainment area.

Dated: November 4, 2022.
David Cash,
Regional Administrator, EPA Region 1.

[FR Doc. 2022-24792 Filed 11-17-22; 8:45 am]

BILLING CODE P